FEDERAL COMMUNICATIONS COMMISSION

Public Information Collections Approved by Office of Management and Budget

November 28, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC 20554, (202) 418-2247 or via the Internet at Dana.Jackson@fcc.gov.

SUPPLEMENTARY INFORMATION: OMB Control No.: 3060-0854.

OMB Approval Date: 09/15/2005.

Expiration Date: 09/30/2008.

Title: Truth-in-Billing Format, CC Docket No. 98-170.

Form No.: None.

Estimated Annual Burden: 34,866 responses; 5 to 462 hours per response; 4,636,942 total annually hourly burden.

Needs and Uses: On March 18, 2005, the Commission released the Second Report and Order, Declaratory Ruling, In the Matter of Truth-in-Billing and Billing Format 2005 Second Report and Order and Declaratory Ruling, FCC 05-55, which determined that Commercial Mobile Radio Service (CMRS) providers no longer should be exempted from 47 CFR 64.2401(b), which requires billing descriptions to be brief, clear, non-misleading and in plain language. In conjunction with the 2005 Second Report and Order and Declaratory Ruling, the Commission released a 2005 Second Further Notice of Proposed Rulemaking, which was also released on March 18, 2005, and which proposed and sought comment on measures to enhance the ability of consumers to make informed choices among competitive telecommunications providers.

The information collection requirements include the following: (1) Those requirements contained in the Truth-in-Billing Format rules, which were previously approved by OMB on November 30, 2004; (2) the adjustments pursuant to the new Census data; (3) changes to the existing rule § 64.2400(b) pursuant to the 2005 Second Report and Order; and (4) the proposed requirements contained in the 2005 Second Further Notice of Proposed Rulemaking.

OMB Control No.: 3060-0874.

OMB Approval Date: 11/01/2005.

Expiration Date: 11/30/2008.

Title: FCC General Communications Related Issues/Obscene, Profane, and/or Indecent Material Complaint Form.

Form No.: FCC Form 475 and FCC Form 475B.

Estimated Annual Burden: 1,354,619 responses; FCC Form 475—30 minutes, FCC Form 475B—15 minutes; 359,477 total annually hourly burden.

Needs and Uses: Revised FCC Form 475, Consumer Complaint Form, allows the Commission to collect detailed data from consumers on the practices of common carriers. The information contained in the collection will allow consumers to provide the Commission with a concise statement outlining all the issues in dispute. Revisions were made in the form to minimize the need to call back consumers in order to acquire additional data. The Commission uses the information to: (1) Assist in resolving informal complaints; (2) assess the practices of common carriers; and (3) for investigative work performed by Federal and State law enforcement agencies to monitor carrier practices and promote compliance with Federal and State law. The data may become the basis for enforcement actions and/or rulemaking proceedings, as appropriate.

The Commission revised FCC Form 475 to clarify information requirements and to comply with OMB requests to make the form more user friendly, by making it clear when and how revised Form 475 may be used appropriately. To emphasize which types of complaints may be filed using the revised form, Form 475 includes directions for use in colored text at the top of the form. Revised Form 475 will be used for all telephone-related complaints, except slamming. If information is required in order to submit a complaint, certain fields have an asterisk next to them. Form 475 also clearly states that “slamming” complaints may not be filed using the revised Form 475. Letters and numbers have been added to the individual data requests, to make it easier for consumers to fill out the revised FCC Form 475.

In Form 475, the Commission asks for the complainant's contact information in the first ten fields, including, name/company name, address, telephone number and e-mail address. Form 475 also asks the consumer to briefly describe his or her complaint, including the company(ies) involved, the account numbers, telephone numbers associated with the complaint, types of service involved, important dates, and the resolution the consumer is seeking. Revised Form 475 also provides clearer guidance for persons wishing to file Telephone Consumer Protection Act (TCPA) related complaints (e.g., unwanted telemarketing calls, unsolicited faxes, etc.). Revised Form 475 now has a section for consumers to submit TCPA complaints with the Commission. This section includes five fields or questions where consumers will provide the requested information and submit the information to file a TCPA violation with the Commission.

FCC Form 475B, Obscene, Profane, and/or Indecent Material Complaint Form, will enable the Commission to collect detailed data from consumers on the practices of those entities that may air/broadcast obscene, profane and/or indecent programming by giving consumers an opportunity, for the first time, to use a specific form to delineate such complaints. Form 475B will be used only for complaints associated with obscene, profane, and/or indecent programming. Information contained in the collection will allow consumers to provide the Commission with the relevant information to help consumers develop a concise statement outlining the issues in dispute, thereby minimizing the amount of time it takes to file a complaint, minimizing confusion on what information the Commission requires, and improving the complaint process and the overall quality of the complaints received.

Prior to the creation of Form 475B, consumers have attempted to use Form 475 to submit complaints about programming and in most instances the Commission has been unable, due to lack of adequate information, to process the complaints. For example, information pertaining to the date, time, and content of the program, the name of the station or program that is the subject of the complaint can now be easily provided. FCC Form 475B includes fields that ask for the complainant's contact information, including name, address, e-mail address, and telephone number. Form 475B also includes a section that asks for information to help identify the station that aired the alleged obscene, profane, and/or indecent material, including the network's name, name of the station, name of the particular program, host or personality/DJ, time of the program, the time zone, the date of the program and the community where the material was aired. The last section on Form 475B asks the complainant to describe the incident and to include as much detail as possible about specific words, languages, and images, to help the Commission determine whether the program was, in fact, obscene, profane, or indecent.

The data may become the foundation for enforcement actions and/or rulemaking proceedings, as appropriate. The information will strengthen the effectiveness of the Commission's rules in deterring obscene, profane, and indecent content and programming.

OMB Control No.: 3060-1084.

OMB Approval Date: 08/30/2005.

Expiration Date: 08/31/2008.

Form No.: None.

Estimated Annual Burden: 380,340 responses; 0.75 to 6.70 hours per response; 444,576 total annually hourly burden.

Title: Rules and Regulations Implementing Minimum Customer Account Record Obligations on All Local Interexchange Carrier (CARE), CG Docket No. 02-386.

Needs and Uses: In the 2005 Report and Order and Further Notice of Proposed Rulemaking, In the Matter of Rules and Regulations Implementing Minimum Customer Account Record Exchange Obligations on All Local and Interexchange Carriers (2005 Report and Order), CG Docket No. 02-386, FCC 05-29, which was released on February 25, 2005, the Commission adopted rules governing the exchange of customer account information between local exchange carriers (LECs) and interexchange carriers (IXCs).

The Commission concluded that mandatory, minimum standards are needed in light of record evidence demonstrating that information needed by carriers to execute customer requests and properly bill customers is not being consistently provided by all LECs and IXCs.

In the 2005 Further Notice of Proposed Rulemaking, the Commission sought comment on whether to mandate the exchange of particular customer account information between two LECs when a customer switches local service providers. The Commission proposed this action in light of concerns reflected in the record regarding the need for more effective communications between LECs when consumers change local service providers. Because the information exchanges proposed in the 2005 Further Notice of Proposed Rulemaking constitute proposed new information collections under the PRA, the Commission specifically invited the general public and OMB to comment on the proposed requirements.

The information collection requirements include: (1) those that are contained in the 2005 Report and Order, which was released on February 25, 2005; and (2) those that the Commission proposes in the 2005 Further Notice of Proposed Rulemaking, published on June 2, 2005, 70 FR 31406.

Federal Communications Commission.
Marlene H. Dortch,
Secretary.

[FR Doc. E5-6889 Filed 12-6-05; 8:45 am]

BILLING CODE 6712-01-P